DEPARTMENT OF LABOR

Office of Workers' Compensation Programs

[OMB Control No. 1240-0016]

Proposed Extension of Information Collection; Request for Information on Earnings, Dual Benefits, Dependents and Third Party Settlement (CA-1032)

AGENCY: Office of Workers' Compensation Programs, Division of Federal Employees' Longshore and Harbor Workers' Compensation, (OWCP/DFELHWC) Labor.

ACTION: Request for public comments.

SUMMARY: The Department of Labor, as part of its continuing effort to reduce paperwork and respondent burden, conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, OWCP/DFELHWC is soliciting comments on the information collection for the Request for Information on Earnings, Dual Benefits, Dependents and Third Party Settlement (CA-1032).

DATES: All comments must be received on or before August 7, 2023.

ADDRESSES: You may submit comment as follows. Please note that late, untimely filed comments will not be considered.

Written/Paper Submissions: Submit written/paper submissions in the following way:

• Mail/Hand Delivery: Mail or visit DOL-OWCP/DFELHWC, Office of Workers' Compensation Programs, Division of Federal Employees' Longshore and Harbor Workers' Compensation, U.S. Department of Labor, 200 Constitution Ave. NW, Room S-3323, Washington, DC 20210.

• OWCP/DFELHWC will post your comment as well as any attachments, except for information submitted and marked as confidential, in the docket at https://www.regulations.gov.

FOR FURTHER INFORMATION CONTACT: Anjanette Suggs, Office of Workers' Compensation Programs, Division of Federal Employees' Longshore, and Harbor Workers' Compensation, OWCP/DFELHWC, at suggs.anjanette@dol.gov @dol.gov (email); (202) 354-9660.

SUPPLEMENTARY INFORMATION:

I. Background

The Federal Employees' Compensation Act (FECA) provides, under 5 U.S.C. 8124 and 8149, that a claimant receiving workers' compensation benefits over an extended period of time provide information concerning their employment earnings, dependents, third party settlements, other Federal benefits, and other benefits they are receiving to verify their entitlement to FECA benefits. The OWCP uses the response to determine whether the claimant is entitled to continue receiving benefits and whether the benefit amount should be adjusted. The collection is necessary to help verify that the beneficiary receives the correct compensation. Information requested on the CA-1032 is obtained from each claiming receiving continuing compensation on the periodic disability roll. The form requests information on the claimant's earnings, dependents, third party settlements, and other Federal benefits received.

II. Desired Focus of Comments

OWCP/DFELHWC is soliciting comments concerning the proposed information collection (ICR) titled, “Request for Information on Earnings, Dual Benefits, Dependents and Third Party Settlement”, CA-1032. OWCP/DFELHWC is particularly interested in comments that:

• Evaluate whether the collection of information is necessary for the proper performance of the functions of the Agency, including whether the information has practical utility;

• Evaluate the accuracy of OWCP/DFELHWC's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Background documents related to this information collection request are available at https://regulations.gov and at DOL-OWCP/DFELHWC located at 200 Constitution Ave., NW, Room S-3323, Washington, DC 20210. Questions about the information collection requirements may be directed to the person listed in the FOR FURTHER INFORMATION CONTACT section of this notice.

III. Current Actions

This information collection request concerns the Request for Information on Earnings, Dual Benefits, Dependents and Third Party Settlement, CA-1032.

OWCP/DFELHWC has updated the data with respect to the number of respondents, responses, burden hours, and burden costs supporting this information collection request from the previous information collection request.

Type of Review: Extension, without change, of a currently approved collection.

Agency: Office of Workers' Compensation Programs, Division of Federal Employees' Longshore, and Harbor Workers' Compensation, OWCP/DFELHWC.

OMB Number: 1240-0016.

Affected Public: Individuals or households.

Number of Respondents: 33,372.

Frequency: Once a year.

Number of Responses: 33,372.

Annual Burden Hours: 11,013 hours.

Annual Respondent or Recordkeeper Cost: $15,198.00.

OWCP Forms: Form CA-1032, Request for Information on Earnings, Dual Benefits, Dependents and Third-Party Settlement.

Comments submitted in response to this notice will be summarized in the request for Office of Management and Budget approval of the proposed information collection request; they will become a matter of public record and will be available at https://www.reginfo.gov.

Anjanette Suggs,
Certifying Officer.

[FR Doc. 2023-12120 Filed 6-6-23; 8:45 am]

BILLING CODE 4510-CH-P